DEPARTMENT OF LABOR

Employment and Training Administration

[TA-W-71,291]

Modine Manufacturing Company, Pemberville, OH; Notice of Affirmative Determination Regarding Application for Reconsideration

By application dated March 10, 2010, a petitioner requested administrative reconsideration of the negative determination regarding workers' eligibility to apply for Trade Adjustment Assistance (TAA) applicable to workers and former workers of the subject firm. The determination was issued on February 12, 2010. The Notice of Determination was published in the Federal Register on March 12, 2010 (75 FR 11925).

The initial investigation resulted in a negative determination based on the finding that imports of Class 8 heavy duty trucks did not contribute importantly to worker separations at the subject firm and no shift of production to a foreign source occurred.

In the request for reconsideration, the petitioner provided additional information pertaining to the articles manufactured at the subject firm and to customers of the subject firm.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 1st day of April, 2010.
Del Min Amy Chen,
Certifying Officer, Division of Trade Adjustment Assistance.

[FR Doc. 2010-8873 Filed 4-16-10; 8:45 am]

BILLING CODE 4510-FN-P